DEPARTMENT OF AGRICULTURE

Economic Research Service

National Agricultural Statistics Service

DEPARTMENT OF COMMERCE

Census Bureau

Bureau of Economic Analysis

DEPARTMENT OF EDUCATION

DEPARTMENT OF ENERGY

Energy Information Administration

DEPARTMENT OF HEALTH AND HUMAN SERVICES

Centers for Disease Control and Prevention

DEPARTMENT OF JUSTICE

DEPARTMENT OF LABOR

Bureau of Labor Statistics

NATIONAL SCIENCE FOUNDATION

SOCIAL SECURITY ADMINISTRATION

DEPARTMENT OF TRANSPORTATION

Bureau of Transportation Statistics

DEPARTMENT OF THE TREASURY

Internal Revenue Service

Federal Statistical Organizations' Guidelines for Ensuring and Maximizing the Quality, Objectivity, Utility, and Integrity of Disseminated Information

AGENCIES: Economic Research Service (ERS) and National Agricultural Statistics Service (NASS), Department of Agriculture (USDA); U.S. Census Bureau (Census) and Bureau of Economic Analysis (BEA), Department of Commerce (DOC); National Center for Education Statistics (NCES), Department of Education (Education); Energy Information Administration (EIA), Department of Energy (DOE); National Center for Health Statistics (NCHS), Centers for Disease Control and Prevention, Department of Health and Human Services (HHS); Bureau of Justice Statistics (BJS), Department of Justice (DOJ); Bureau of Labor Statistics (BLS), Department of Labor (DOL); Division of Science Resources Statistics (SRS), National Science Foundation (NSF); Office of Research, Evaluation, and Statistics (ORES), Social Security Administration (SSA); Bureau of Transportation Statistics (BTS), Department of Transportation (DOT); Statistics of Income Division (SOI), Internal Revenue Service (IRS), Department of the Treasury (Treasury).

ACTION: Notice.

SUMMARY: Principal Federal statistical organizations are jointly announcing the opportunity to comment on their respective proposed guidelines for ensuring and maximizing the quality, objectivity, utility, and integrity of disseminated information. The statistical organizations' quality guidelines are each being developed to be responsive to Office of Management and Budget (OMB) issued government-wide guidelines at 67 FR 8452-8460 (February 22, 2002) and are intended to be included as part of the response from the Department or agency in which the statistical organization is located. Departments and agencies are required to issue their own implementing guidelines, including correction procedures, and to make the guidelines available on their individual Web Sites. Some basic features of how the Nation's principal statistical organizations will be responsive to the OMB guidelines are presented in the Supplementary Information section of this notice. This notice also serves to announce the availability of each organization's draft guidelines and related information (see Section II of Supplementary Information).

A statistical agency or unit, as defined in the Federal Register June 27, 1997(62 FR 35043-35050), is an agency or organizational unit of the Executive Branch whose activities are predominantly the collection, compilation, processing or analysis of information for statistical purposes. The above list of statistical organizations consists of the principal statistical agencies and other statistical organizational units belonging to the Interagency Council on Statistical Policy. Statistical organizations have long been leaders in the activities that are being required under the OMB guidelines. It should be noted that each organization will prepare its final guidelines in conjunction with its respective Department or agency.

The Office of Management and Budget recognizes that Federal statistical organizations provide a substantial variety of data. Accordingly, it is understood that the OMB guidelines cannot be implemented in the same way by each organization. In some cases, for example, the data disseminated by an organization are not collected by that organization at a particular point in time; rather, the information the organization must disseminate in a timely manner is compiled from a variety of sources (including surveys, administrative records, and other sources) that are constantly updated and revised and are generally confidential. While organizations' implementation of the guidelines may differ, the essence of the guidelines will apply. That is, these organizations must make their methods transparent by providing documentation, ensure quality by reviewing methods and consulting with experts and users, and inform users about corrections and revisions.

Each organization will take comments received into account, and will prepare its final guidelines in conjunction with its respective Department or agency for submission to OMB by August 1, 2002.

DATES: The dates for submission of comments to the statistical organizations vary. Comments on a specific organization's draft guidelines must be filed by the date provided at that organization's Web Site as listed below in Section II of SUPPLEMENTARY INFORMATION.

ADDRESSES: Comments concerning an individual statistical organization's guidelines should be sent to that organization's representative as noted below in Section II of the Supplementary Information. To ensure receipt of the comments by the due date, submission by FAX or e-mail is recommended.

FOR FURTHER INFORMATION CONTACT: Copies of the draft guidelines for individual organizations are at the organizations' Web Sites listed below in Section II of Supplementary Information, along with information on a contact person for each organization.

SUPPLEMENTARY INFORMATION:

I. Background

II. Statistical Organization Actions, Web Sites, and Representatives

III. Agency/Department Process to Respond to Comments

I. Background

Federal statistics play a key role in a broad range of public policy, business, and individual decisions. Federal statistical surveys and compilations of administrative data are extensive undertakings that involve the collection of detailed information, often from large numbers of entities.

The principal functions of Federal statistical organizations generally include the compilation, analysis, and the dissemination of information, although the actual mix of functions varies by organization. Federal statistical organizations seek to maintain their independence in the production of their statistics; the confidentiality of information provided by respondents; and high quality standards. These features foster credibility with data users and trust among data providers. The heads of the Nation's principal statistical agencies (ERS, NASS, BEA, Census, NCES, EIA, NCHS, BJS, BLS, and BTS) plus the heads of the statistical units in the IRS, NSF, and SSA, serve on the Interagency Council on Statistical Policy (ICSP) which is led by OMB. The ICSP coordinates statistical work across organizations, enables the exchange of information about organization programs and activities, and provides advice and counsel to OMB on statistical activities.

High quality publicly available statistics from Federal statistical organizations are essential for the nation to advance the economic well-being and quality of life of its people. OMB guidelines for the quality, objectivity, utility, and integrity of information disseminated by Federal agencies are encompassed by the statistical organizations' requirements that the statistics produced must be accurate, timely, relevant, and accessible to data users. The statistics should also be reproducible, meaning that there is the capability to use the documented methods on the same data set to achieve a consistent result.

Statistical organizations, as defined above, maintain the quality of their data or information products as well as their credibility by setting high standards of performance in their activities. Such activities generally include:

• Development of concepts and methods;

• Planning and design of surveys and other means of collecting data;

• Collection of data;

• Processing and editing of data;

• Analysis of data;

• Production of estimates or projections;

• Establishment of review procedures; and

• Dissemination of data by published reports, electronic files and other media requested by users.

Statistical organizations undertake these activities in substantially different proportions, and not all statistical organizations engage in each of these activities.

A statistical organization's commitment to quality and professional standards of practice further includes: the use of modern statistical theory and practice in all technical work; the development of strong staff expertise in the disciplines relevant to its mission; the implementation of ongoing quality assurance programs to improve data validity and reliability and to improve the processes of compiling, editing, and analyzing data; and the development of a strong and continuing relationship with appropriate professional organizations in the fields of statistics and relevant subject-matter areas.

To carry out its mission, a Federal statistical organization assumes responsibility for determining sources of data, measurement methods, methods of data collection and processing while minimizing respondent burden; employing appropriate methods of analysis; and ensuring the public availability of the data and documentation of the methods used to obtain the data. Within the constraints of resource availability, a statistical organization continually works to improve its data systems to provide information necessary for the formulation of public policy.

In striving for the widest possible dissemination and greatest usefulness of its data, a statistical organization establishes a publications policy that addresses the types of reports and other data releases, including electronic, to be made available; the frequency and timeliness of such releases; the variety of avenues for data dissemination and formats; and policies for the preservation of data. A statistical organization seeks advice on specific data concepts, methods, and products from data users and from other professional and technical subject-matter and methodological experts. When applicable, a statistical organization seeks advice on its statistical program as a whole, including the setting of statistical priorities and on the statistical methodologies it uses. The organization strives to meet the needs for access to data while maintaining appropriate safeguards for the confidentiality of individual responses.

In accordance with the OMB guidelines, each agency will establish mechanisms providing the public with the opportunity to seek correction of information that does not comply with OMB or agency guidelines. Those mechanisms are addressed in more detail on the Web Sites listed below in Section II of Supplementary Information.

II. Statistical Organization Actions, Web Sites, and Representatives

According to OMB's guidelines, an agency designated in OMB Circular A-130 must publish a notice of availability of its draft quality guidelines in the Federal Register and post the draft guidelines on the its Web Site to provide an opportunity for public comment. The statistical organizations participating in this Federal Register notice are listed below. As noted above, many statistical organizations will also be formally covered by the quality guidelines of their parent Department or agency, and those draft guidelines are also available for review.

The statistical organizations listed below are requesting comments on the quality guidelines that each has developed for its disseminated information.

The Web Site addresses present each organization's draft guidelines on which the organization is requesting public comments. Also included is the organization's contact person for more information and who should receive any comments. To ensure receipt of the comments by the due date indicated on an agency's Web Site, submission by FAX or e-mail is recommended.

• BEA—The proposed quality guidelines are available at www.bea.gov/. For additional information or to comment on the agency's guidelines, contact Stephen Andrews. Mr. Andrews may be contacted by telephone at (202) 606-9653, FAX at (202) 606-5313, or e-mail at ocs@bea.gov. His mailing address is Bureau of Economic Analysis, BE-40, 1441 L Street, N.W., Washington, DC 20230.

• BLS—The proposed quality guidelines are available at www.bls.gov/BLS/Quality.htm. For additional information or to comment on the agency's guidelines, contact Deborah Klein. Ms. Klein may be contacted by telephone at (202) 691-5900, FAX at (202) 691-5899, or e-mail at DataQa@bls.gov. Her mailing address is Bureau of Labor Statistics, 2 Massachusetts Avenue, N.E., Washington, DC 20212.

• BJS—The proposed quality guidelines are available at www.ojp.usdoj.gov/bjs/whtsnw2.htm. For additional information or to comment on the agency's guidelines, contact Pete Brien. Mr. Brien may be contacted by telephone at (202) 305-0643, FAX at (202) 307-5846, or e-mail at askbjs@ojp.usdoj.gov. His mailing address is Bureau of Justice Statistics, 810 7th St, NW, Washington, DC 20531.

• BTS—The proposed quality guidelines are available at www.bts.gov/statpol/. For additional information on the agency's guidelines, contact Eugene Burns. Dr. Burns may be contacted by telephone at (202) 366-3491, FAX at (202) 366-3640, or e-mail at eugene.burns@bts.gov. His mailing address is Office of Statistical Quality (K-24), Bureau of Transportation Statistics, 400 Seventh Street, S.W., Washington, DC 20590. To comment on the agency's guidelines, send your comments to the U. S. Department of Transportation, Docket Management System (DMS). You may submit your comments by fax, Internet, in person, or via the U.S. mail to the Docket Clerk, Docket No. OST-2002-11996, Department of Transportation, 400 Seventh Street, SW., Room PL-401, Washington, DC 20590-0001. Comments should identify the DOT docket number. Please note that due to delays in the delivery of U.S. mail to Federal offices in Washington, DC, persons should consider an alternative method (the Internet, fax, or professional delivery service) to submit comments. You may fax your comments to the DMS at (202) 493-2251. If you wish to file comments using the Internet, you may use the DOT DMS Web Site at http://dms.dot.gov/. Please follow the online instructions for submitting an electronic comment.

• Census—The proposed quality guidelines are available at www.census.gov/. For additional information or to comment on the agency's guidelines, contact Cynthia Clark. Dr. Clark may be contacted by telephone at (301) 457-2160, FAX at (301) 457-1902, or e-mail at quality@census.gov. Her mailing address is Associate Director for Methodology and Standards, U.S. Census Bureau, Washington, DC 20233-9000.

• EIA—The proposed quality guidelines are available at www.eia.doe.gov/neic/aboutEIA/aboutus.htm. For additional information or to comment on the agency's guidelines, contact Jay Casselberry. Mr. Casselberry may be contacted by telephone at (202) 287-1717, FAX at (202) 287-1705, or e-mail at Jay.Casselberry@eia.doe.gov. His mailing address is Statistics and Methods Group (EI-70), Energy Information Administration, U.S. Department of Energy, 1000 Independence Ave., SW, Washington, DC 20585-0670.

• ERS—The proposed quality guidelines are available at www.ers.usda.gov/. For additional information or to comment on the agency's guidelines, contact Phil Fulton. Dr. Fulton may be contacted by telephone at (202) 694-5000, FAX at (202) 694-5757, or e-mail at pfulton@ers.usda.gov. His mailing address is Economic Research Service, 1800 M Street, NW, Washington, DC 20036-5831.

• IRS/Statistics of Income Division—The quality guidelines for IRS Statistics of Income Division will be included in the final agency-wide guidelines. The IRS draft guidelines are available at www.irs.gov/pub/irs-utl/data—quality—draft—guidelines.pdf. For additional information or to comment on IRS's guidelines, contact Wayne Wiegand by telephone at (202) 927-4412, FAX at (202) 874-0922, e-mail at Wayne.E.Wiegand@irs.gov, or mail at Internal Revenue Service, 1111 Constitution Avenue NW, Room 3524, Washington DC 20224, ATTN: Wayne Wiegand.

• NASS—The proposed quality guidelines are available at www.usda.gov/nass/. For additional information or to comment on the agency's guidelines, contact Rich Allen. Mr. Allen may be contacted by telephone at (202) 720-4333, FAX at (202) 720-9013, or e-mail at rallen@nass.usda.gov. His mailing address is USDA-NASS, Room 4117 South Bldg., 1400 Independence Ave. S.W., Washington, DC 20250-2001.

• NCES—The proposed quality guidelines are available at www.nces.ed.gov/statprog. For additional information or to comment on the agency's guidelines, contact Marilyn McMillen Seastrom. Dr. Seastrom may be contacted by telephone at (202) 502-7303, FAX at (202) 502-1717, or email at marilyn.mcmillen@ed.gov. Her mailing address is NCES, Room 9051, 1990 K Street NW, Washington, DC 20006.

• NCHS—The proposed quality guidelines are available at www.cdc.gov/nchs/. For additional information or to comment on the agency's guidelines, contact Jennifer Madans. Dr. Madans may be contacted by telephone at 301-458-4500, FAX at (301) 458-4020, or e-mail at JMadans@cdc.gov. Her mailing address is National Center for Health Statistics, 6525 Belcrest Road, Room 1140, Hyattsville, MD 20782.

• NSF/Division of Science Resources Statistics—The proposed quality guidelines are available at www.nsf.gov/sbe/srs/infoqual.htm. For additional information or to comment on the division's guidelines, contact Jeri Mulrow. Ms. Mulrow may be contacted by telephone at (703) 292-4784, FAX at (703) 292-9092, or e-mail at JMulrow@nsf.gov. Her mailing address is Division of Science Resources Statistics, National Science Foundation, 4201 Wilson Blvd., Room 965, Arlington, VA 22230.

• SSA/Office of Research, Evaluation, and Statistics—The proposed quality guidelines are available at http://www.ssa.gov/515/. For additional information or to comment on SSA's guidelines, contact Brian Greenberg. Note that quality guidelines for SSA's statistical information products are included in agency-wide guidelines. Dr. Greenberg may be contacted by telephone at (410) 965-0131, FAX at (410) 965-3308, or e-mail at brian.v.greenberg@ssa.gov. His mailing address is Social Security Administration, Office of Research, Evaluation, and Statistics, Room 4C15, Operations Building, 6401 Security Blvd., Baltimore, MD 21235.

III. Agency/Department Process To Respond to Comments

Comments submitted to each individual organization in response to their notices will be summarized by them and/or may be included in their request for OMB approval of the organization's final quality guidelines. In any event, the submitted comments become a matter of public record.

Authorities: Sec. 515 of the Treasury and General Government Appropriations Act for Fiscal Year 2001 (Pub. L. 106-554; H.R. 5658) and the Office of Management and Budget Final Guidelines issued on February 22, 2002 (67 FR 8452-8460).

Issued in Washington, D.C. May 29, 2002.
Susan E. Offutt,
Administrator, Economic Research Service, Department of Agriculture.

R. Ronald Bosecker,
Administrator, National Agricultural Statistics Service, Department of Agriculture.

C. Louis Kincannon,
Director, U.S. Census Bureau, Department of Commerce.

J. Steven Landefeld,
Director, Bureau of Economic Analysis, Department of Commerce.

Gary Phillips,
Deputy Commissioner, National Center for Education Statistics, Department of Education.

Mary J. Hutzler,
Acting Administrator, Energy Information Administration, Department of Energy.

Edward J. Sondik,
Director, National Center for Health Statistics, Centers for Disease Control and Prevention, Department of Health and Human Services.

Mr. Lawrence A. Greenfeld,
Acting Director, Bureau of Justice Statistics, Department of Justice.

Lois Orr,
Acting Commissioner, Bureau of Labor Statistics, Department of Labor.

Lynda T. Carlson,
Director, Division of Science Resources Statistics National Science Foundation.

Susan Grad,
Acting Associate Commissioner, Office of Research, Evaluation, and Statistics, Social Security Administration.

Ashish Sen,
Director, Bureau of Transportation Statistics, Department of Transportation.

Issued in Washington, DC May 7, 2002.
Thomas Petska,
Director, Statistics of Income Division, Internal Revenue Service, Department of Treasury.

[FR Doc. 02-13892 Filed 6-3-02; 8:45 am]

BILLING CODE 6450-01-P